DEPARTMENT OF ENERGY

Federal Energy Regulatory Commission

[Docket No. AD23-7-000]

PJM Capacity Market Forum; Notice of Forum

Take notice that the Federal Energy Regulatory Commission (Commission) will convene a Commissioner-led forum to examine the PJM Interconnection, L.L.C. (PJM) capacity market in the above-captioned proceeding on June 15, 2023, from approximately 12:00 p.m. to 5:00 p.m. Eastern Time. The forum will be held in-person at the Commission headquarters at 888 First Street NE, Washington, DC 20426 in the Commission Meeting Room.

The forum will include three panels to solicit varied perspectives on the current state of the PJM capacity market, potential improvements, and related proposals to address resource adequacy. The first panel, the overview panel, will explore whether the PJM capacity market is achieving its objectives of ensuring resource adequacy at just and reasonable rates. The second panel, the technical panel, will discuss potential market design reforms that may be needed to ensure PJM's capacity market is achieving its objectives. The third panel, a roundtable with state representatives (including state Commissioners), will discuss their views and respond to the first and second panels' discussions. Additional detail on these topics and panels will be shared in subsequent notices.

Individuals interested in participating as panelists should submit a self-nomination email by 5:00 p.m. Eastern Time on April 28, 2023 to PJM-Capacity-Market-Forum@ferc.gov. Each nomination should state the proposed panelist's name, contact information, organizational affiliation, and what topics the proposed panelist would like to speak on.

The workshop will be open to the public and there is no fee for attendance. Information will also be posted on the Calendar of Events on the Commission's website, www.ferc.gov, prior to the event.

The forum will be transcribed and webcast. Transcripts will be available for a fee from Ace Reporting (202-347-3700). A free webcast of this event is available through the Commission's website. Anyone with internet access who desires to view this event can do so by navigating to www.ferc.gov's Calendar of Events and locating this event in the Calendar. The Federal Energy Regulatory Commission provides technical support for the free webcasts. Please call (202) 502-8680 or email customer@ferc.gov if you have any questions.

Commission workshops are accessible under section 508 of the Rehabilitation Act of 1973. For accessibility accommodations, please send an email to accessibility@ferc.gov, call toll-free (866) 208-3372 (voice) or (202) 208-8659 (TTY), or send a fax to (202) 208-2106 with the required accommodations.

For more information about this workshop, please contact Katherine Scott at katherine.scott@ferc.gov or (202) 502-6495. For information related to logistics, please contact Sarah McKinley at sarah.mckinley@ferc.gov or (202) 502-8368.

Dated: April 19, 2023.
Debbie-Anne A. Reese,
Deputy Secretary.

[FR Doc. 2023-08741 Filed 4-25-23; 8:45 am]

BILLING CODE 6717-01-P